DEPARTMENT OF DEFENSE

Department of the Navy

Notice of Closed Meeting of the Chief of Naval Operations (CNO) Executive Panel

AGENCY: Department of the Navy, DoD.

ACTION: Notice.

SUMMARY: The CNO Executive Panel will report on the findings and recommendations of the Subcommittee “The Navy & The Nation” to the Chief of Naval Operations. The matters to be discussed during the meeting are: Campbell-Ewald Advertising contract, Branding project, and marketing & recruiting methods; CNO's Engagement and long-range schedule. Each topic under each of these headings relates solely to the internal personnel rules and practices of the agency; discloses privileged/confidential trade secrets, commercial, and financial information; pertains to the CNO's classified “SECRET” long-range schedule, and discusses information the premature disclosure of which would be likely to significantly frustrate the fair bidding process for a major DON contract which makes this information exempt from open meeting disclosure pursuant to 5 U.S.C. sections 552b(c)(1) and (4).

DATES: The meeting will be held on December 15, 2008, from 9 a.m. to 11 a.m.

ADDRESSES: The meeting will be held at Center for Naval Analyses (CNA), Room 1A01, 4825 Mark Center Drive, Alexandria, VA 22311.

FOR FURTHER INFORMATION CONTACT: LCDR Eric Taylor, CNO Executive Panel, 4825 Mark Center Drive, Alexandria, VA 22311, telephone: 703-681-4909.

SUPPLEMENTARY INFORMATION: Pursuant to the provisions of the Federal Advisory Committee Act, as amended (5 U.S.C. App.), these matters constitute classified information that is specifically authorized by Executive Order to be kept secret in the interest of national defense and is, in fact, properly classified pursuant to such Executive Order.

Accordingly, the Secretary of the Navy has determined in writing that the public interest requires that all sessions of this meeting be closed to the public because they will be concerned with matters listed in sections 552b(c)(1) and (4) of title 5, United States Code.

Individuals or interested groups may submit written statements for consideration by the Chief of Naval Operations Executive Panel at any time or in response to the agenda of a scheduled meeting. All requests must be submitted to the Designated Federal Officer at the address detailed below. If the written statement is in response to the agenda mentioned in this meeting notice then the statement, if it is to be considered by the Panel for this meeting, must be received at least five days prior to the meeting in question.

The Designated Federal Officer will review all timely submissions with the Chief of Naval Operations Executive Panel Chairperson, and ensure they are provided to members of the Chief of Naval Operations Executive Panel before the meeting that is the subject of this notice. To contact the Designated Federal Officer, write to Executive Director, CNO Executive Panel (N00K), 4825 Mark Center Drive, 2nd Floor, Alexandria, VA 22311-1846.

Dated: November 14, 2008.
T.M. Cruz,
Lieutenant Commander, Office of the Judge Advocate General, U.S. Navy, Federal Register Liaison Officer.

[FR Doc. E8-27694 Filed 11-20-08; 8:45 am]

BILLING CODE 3810-FF-P